NUCLEAR REGULATORY COMMISSION

10 CFR Part 72

RIN 3150-AH72

List of Approved Spent Fuel Storage Casks: Standardized NUHOMS® -24P, -52B, -61BT, -32PT, -24PHB, and -24PTH Revision; Withdrawal of Proposed Rule

AGENCY: Nuclear Regulatory Commission.

ACTION: Proposed rule; withdrawal.

SUMMARY: The Nuclear Regulatory Commission (NRC) is withdrawing a proposed rule to revise the NUHOMS® -24P, -52B, -61BT, -32PT, -24PHB, and -24PTH cask system listing within the list of approved spent fuel storage casks to include Amendment No. 8 to Certificate of Compliance (CoC) Number 1004. The NRC is taking this action because the NRC staff has become aware of changes in the Technical Specifications (TS) associated with this CoC. A notice withdrawing the direct final rule is published in the final rule section of this Federal Register.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On May 25, 2005 (70 FR 30015), the NRC published in the Federal Register a proposed rule amending its regulations in 10 CFR 72.214 to revise the Standardized NUHOM® System listing within the “List of Approved Spent Fuel Storage Casks” to include Amendment No. 8 to the CoC. Amendment No. 8 modifies the present cask system by adding a new spent fuel storage and transfer system, designated the NUHOMS® -24PTH System. The NRC also concurrently published a direct final rule on May 25, 2005 (70 FR 29931) that would have become effective on August 8, 2005.

The NRC has become aware of changes in the TS associated with this CoC; therefore, the NRC is withdrawing the proposed rule. The NRC will publish a direct final rule, and its companion proposed rule, after the needed revisions to the TS are made.

Dated at Rockville, Maryland, this 6th day of July, 2005.
For the Nuclear Regulatory Commission.
Martin J. Virgilio,
Acting Executive Director for Operations.

[FR Doc. 05-13932 Filed 7-14-05; 8:45 am]

BILLING CODE 7590-01-P